DEPARTMENT OF HOMELAND SECURITY

Coast Guard

33 CFR Part 165

[Docket Number USCG-2024-0994]

RIN 1625-AA87

Security Zone; Electric Boat Shipyard, Narragansett Bay, Quonset Point, North Kingstown, RI

AGENCY: Coast Guard, DHS.

ACTION: Final rule.

SUMMARY: The Coast Guard is establishing a security zone in the waters adjacent to the General Dynamics Electric Boat Corporation Quonset Point facility in Narragansett Bay, North Kingstown, RI. This is necessary to protect the facility, material, and adjacent areas from sabotage or other subversive acts, accidents or incidents of a similar nature. This rulemaking prohibits all persons and vessels from operating within the prescribed security zone without prior authorization by the Captain of the Port, Sector Southeastern New England or designated representative.

DATES: This rule is effective September 8, 2025.

ADDRESSES: To view documents mentioned in this preamble as being available in the docket, go to https://www.regulations.gov, type [USCG-2024-0994] in the search box and click “Search.” Next, in the Document Type column, select “Supporting & Related Material.”

FOR FURTHER INFORMATION CONTACT: If you have questions about this rule, call or email: Marine Science Technician 2nd Class Nicholas Easley, Waterways Management Division, Sector Southeastern New England, U.S. Coast Guard; telephone 206-827-4160, email Nicholas.S.Easley@uscg.mil.

SUPPLEMENTARY INFORMATION:

I. Table of Abbreviations

CFR Code of Federal Regulations

COTP Captain of the Port, Sector Southeastern New England

DHS Department of Homeland Security

FR Federal Register

NPRM Notice of proposed rulemaking

§ Section

U.S.C. United States Code

II. Background Information and Regulatory History

On August 29, 2024, the U.S. Navy submitted a formal request to the Coast Guard to establish a security zone in the waters adjacent to the General Dynamics Electric Boat Corporation Quonset Point facility in North Kingstown, RI. In response, on April 25, 2025, the Coast Guard published a notice of proposed rulemaking (NPRM) titled Security Zone; Electric Boat Shipyard, Narragansett Bay, Quonset Point, North Kingstown, RI (90 FR 17360). There, we stated why we had issued the NPRM, and we invited comments on our proposed regulatory action related to this security zone. During the comment period that ended May 27, 2025, we received one comment.

III. Legal Authority and Need for Rule

The Coast Guard is issuing this rule under the authority in 46 U.S.C. 70051 and 70124. The Captain of the Port, Sector Southeastern New England (COTP) has determined that it is in the best interest of national security to establish a permanent security zone to protect the facility, material storage areas, and adjacent areas from sabotage or other subversive acts, accidents or incidents of a similar nature.

IV. Discussion of Comments, Changes, and the Rule

As noted above, we received one comment on our NPRM published April 25, 2025. The commenter stated that “if the security of this area decreases the traffic seen by boats in this area, I find that to be a positive outcome of this proposed rule,” but questioned “will this security entail that there are more boats patrolling the area,” and wondered how any such increased vessel traffic might impact the environment. In response, we note that the action we are taking in this rulemaking, establishment of the security zone, prohibits unauthorized vessel traffic within its boundaries, but neither authorizes nor prohibits authorized vessels to patrol the area. This action, which is independent of the decision that was made to site the facility where it is and of any environmental issues flowing from that decision, has no bearing on whether, or how many vessels patrol the area. There are no changes in the regulatory text of this rule from the proposed rule in the NPRM.

This rule establishes a security zone for a portion of navigable waters on Narraganset Bay adjacent to the General Dynamics Electric Boat Corporation Quonset Point facility in North Kingstown, RI. Specifically, the security zone includes all navigable waters of Narragansett Bay, from surface to bottom, South of Quonset Point, North Kingstown, RI, enclosed by a line beginning at a point on the shoreline at 41°35′06.3″ N, 71°25′33.2″ W; then to 41°34′59.6″ N, 71°25′20.5″ W; then to 41°35′01.0″ N, 71°25′08.7″ W; then to 41°35′08.7″ N, 71°25′08.7″ W; then along the shoreline to the point of beginning. These coordinates are based on North American Datum 1983. Figure 1 provides a visual depiction of the security zone.

This security zone will protect the facility, material storage areas, and adjacent areas from sabotage or other subversive acts, accidents or incidents of a similar nature, and to specify the horizontal datum employed to describe the geographic coordinates that establish the zone boundaries.

V. Regulatory Analyses

We developed this rule after considering numerous statutes and Executive Orders related to rulemaking. Below we summarize our analyses based on a number of these statutes and Executive orders.

A. Regulatory Planning and Review

Executive Orders 12866 (Regulatory Planning and Review) and 13563 (Improving Regulation and Regulatory Review) direct agencies to assess the costs and benefits of available regulatory alternatives and, if regulation is necessary, to select regulatory approaches that maximize net benefits. Executive Order 13563 emphasizes the importance of quantifying both costs and benefits, of reducing costs, of harmonizing rules, and of promoting flexibility.

The Office of Management and Budget (OMB) has not designated this rule a “significant regulatory action,” under section 3(f) of Executive Order 12866. Accordingly, OMB has not reviewed it. The Coast Guard has determined that it is not a significant regulatory action.

This regulatory action determination is based on the size and location of the regulated area. Vessel traffic will be able to safely transit around the security zone, which will impact a small, designated area of the Narragansett Bay.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received no comments from the Small Business Administration on this rulemaking. The Coast Guard certifies under 5 U.S.C. 605(b) that this rule will not have a significant economic impact on a substantial number of small entities.

While some owners or operators of vessels intending to transit the security zone may be small entities, for the reasons stated in section V.A above, this rule will not have a significant economic impact on any vessel owner or operator.

Under section 213(a) of the Small Business Regulatory Enforcement Fairness Act of 1996 (Pub. L. 104-121), we want to assist small entities in understanding this rule. If the rule will affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves a security zone to limit access near Quonset Point, North Kingstown, RI. It is categorically excluded from further review under paragraph L60(a) of Appendix A, Table 1 of DHS Instruction Manual 023-01-001-01, Rev. 1. A Record of Environmental Consideration supporting this determination is available in the docket. For instructions on locating the docket, see the ADDRESSES section of this preamble.

List of Subjects in 33 CFR Part 165

Harbors, Marine Safety, Navigation (water), Reporting and recordkeeping requirements, Security Measures, Waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6 and 160.5; Department of Homeland Security Delegation No. 00170.1, Revision No. 01.4.

2. Add § 165.124 to read as follows:

§ 165.124 Security Zone; Electric Boat Shipyard, Narragansett Bay, Quonset Point, North Kingstown, RI

(a) Location. The following area is a security zone: All navigable waters of Narragansett Bay, from surface to bottom, South of Quonset Point, North Kingstown, RI, enclosed by a line beginning at a point on the shoreline at 41°35′06.3″ N, 71°25′33.2″ W; then to 41°34′59.6″ N, 71°25′20.5″ W; then to 41°35′01.0″ N, 71°25′08.7″ W; then to 41°35′08.7″ N, 71°25′08.7″ W; then along the shoreline to the point of beginning. These coordinates are based on North American Datum 1983.

(b) Definitions. As used in this section, vessel means every description of watercraft or other artificial contrivance used, or capable of being used, as a means of transportation on water, except vessels of the Armed Forces, as defined at 14 U.S.C 527(e).

(c) Regulations. (1) Under the general security zone regulations in subpart D of this part, no person or vessel may enter or remain in the security zone described in paragraph (a) of this section without the permission of the Captain of the Port, other than vessels of the Armed Forces, U.S. Government-owned vessels or vessels owned by, under hire to, or performing work for, the Electric Boat Division when operating in the security zone.

(2) This security zone is closed to all vessel traffic, except as may be permitted by the Captain of the Port (COTP) or a designated representative. Vessel operators given permission to enter or operate in the security zones must comply with all directions given to them by the COTP or the designated representative.

(3) The “designated representative” is any Coast Guard commissioned, warrant or petty officer who has been designated by the Captain of the Port to act on his/her behalf. The on-scene representative may be on a Coast Guard vessel, a state or local law enforcement vessel, or other designated craft, or may be on shore and will communicate with vessels via VHF-FM radio or loudhailer. In addition, members of the Coast Guard Auxiliary may be present to inform vessel operators of this regulation.

(4) Vessel operators desiring to enter or operate within the security zones shall request permission to do so by contacting the Coast Guard Sector Southeastern New England Command Center at 866-819-9128, or via VHF Channel 16.

Youngmee Moon,
CAPTAIN, U.S. Coast Guard, Captain of the Port, Sector Southeastern New England.

[FR Doc. 2025-15092 Filed 8-7-25; 8:45 am]

BILLING CODE 9110-04-P